DEPARTMENT OF TRANSPORTATION

National Highway Traffic Safety Administration

49 CFR Part 586

[Docket No. NHTSA-2021-0006]

RIN 2127-AL77

Vehicle Identification Number (VIN) Requirements; Manufacturer Identification; Certification; Replica Motor Vehicles; Importation of Vehicles and Equipment Subject to Federal Safety, Bumper, and Theft Prevention Standards

AGENCY: National Highway Traffic Safety Administration (NHTSA), Department of Transportation (DOT).

ACTION: Correcting amendment.

SUMMARY: On March 9, 2022, the NHTSA issued regulations implementing the Replica Motor Vehicle program. That document included an incorrectly designated paragraph in the final regulatory text for the section titled “Temporary labels.” This document corrects the final regulatory text.

DATES: Effective April 19, 2022.

FOR FURTHER INFORMATION CONTACT: For further information you may contact Ms. Callie Roach, telephone 202-597-1312, Callie.Roach@dot.gov; Mr. Daniel Koblenz, telephone 202-366-5329, Daniel.Koblenz@dot.gov; Office of the Chief Counsel. The mailing address of these officials is: National Highway Traffic Safety Administration, 1200 New Jersey Avenue SE, West Building, Washington, DC 20590.

SUPPLEMENTARY INFORMATION: This document makes a correction to final regulatory text that was published in the Federal Register on March 9, 2022 (87 FR 13209).

List of Subjects in 49 CFR Part 586

Labeling, Motor vehicle safety, Replica motor vehicles, Reporting and recordkeeping requirements.

In consideration of the foregoing, NHTSA corrects 49 CFR part 586 as follows:

PART 586—REPLICA MOTOR VEHICLES

1. The authority citation for part 586 continues to read as follows:

Authority: 49 U.S.C. 30112 and 30114; delegation of authority at 49 CFR 1.95.

§ 586.11 [Amended]

2. In § 586.11, redesignate paragraph (b)(3) as paragraph (c).

Issued under authority delegated in 49 CFR part 1.95 and 49 CFR 501.8.
Raymond R. Posten,
Associate Administrator for Rulemaking.

[FR Doc. 2022-08289 Filed 4-18-22; 8:45 am]

BILLING CODE 4910-59-P